ENVIRONMENTAL PROTECTION AGENCY

40 CFR Part 141

[EPA-HQ-OW-2019-0583; FRL-10007-97-OW]

RIN 2040-AF93

Announcement of Preliminary Regulatory Determinations for Contaminants on the Fourth Drinking Water Contaminant Candidate List; Extension of Comment Period

AGENCY: Environmental Protection Agency (EPA).

ACTION: Request for public comment; extension of comment period.

SUMMARY: The U.S. Environmental Protection Agency (EPA) is extending the comment period for the document issued in the Federal Register on March 10, 2020, titled “Announcement of Preliminary Regulatory Determinations for Contaminants on the Fourth Drinking Water Contaminant Candidate List.” In response to stakeholder requests, the EPA is extending the comment period an additional 30 days from May 11, 2020 to June 10, 2020. Please note changes for public visitors to the EPA Docket Center and Reading Room in the SUPPLEMENTARY INFORMATION section of this document.

DATES: Comments for the proposed rule published on March 10, 2020 (85 FR 14098) must be received on or before June 10, 2020.

ADDRESSES: You may send comments, identified by Docket ID No. EPA-HQ-OW-2019-0583, by any of the following methods:

• Federal eRulemaking Portal: https://www.regulations.gov/ (the EPA's preferred method). Follow the online instructions for submitting comments.

Instructions: All submissions received must include the Docket ID No. EPA-HQ-OW-2019-0583. Comments received may be posted without change to https://www.regulations.gov/, including any personal information provided. For detailed instructions on sending comments, see the Public Participation under the SUPPLEMENTARY INFORMATION section of this document. Out of an abundance of caution for members of the public and our staff, the EPA Docket Center and Reading Room was closed to public visitors on March 31, 2020, to reduce the risk of transmitting COVID-19. Our Docket Center staff will continue to provide remote customer service via email, phone, and webform. We encourage the public to submit comments via https://www.regulations.gov or email, as there is a temporary suspension of mail delivery to the EPA, and no hand deliveries are currently accepted. For further information on the EPA Docket Center services and the current status, please visit us online at https://www.epa.gov/dockets.

FOR FURTHER INFORMATION CONTACT: Richard Weisman, Standards and Risk Management Division, Office of Ground Water and Drinking Water, MC: 4607M, Environmental Protection Agency, 1200 Pennsylvania Avenue NW, Washington, DC 20460; telephone number: (202) 564-2822; email address: weisman.richard@epa.gov.

SUPPLEMENTARY INFORMATION:

I. Public Participation

Submit your comments, identified by Docket ID No. EPA-HQ-OW-2019-0583 via the https://www.regulations.gov (the EPA's preferred method) or any other method listed in the ADDRESSES section of this document. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. General Information

On March 10, 2020, the EPA published in the Federal Register (85 FR 14098) a request for public comment for the “Announcement of Preliminary Regulatory Determinations for Contaminants on the Fourth Drinking Water Contaminant Candidate List.” The proposed preliminary determinations and request for comment, as initially published in the Federal Register, provided for written comments to be submitted to the EPA on or before May 11, 2020 (a 60-day public comment period). Since publication, the EPA has received requests for additional time to submit comments. The EPA is extending the comment period for 30 days until June 10, 2020. The EPA will consider public comments in the development of final regulatory determinations for contaminants on the Fourth Drinking Water Contaminant Candidate List. The Preliminary Regulatory Determinations and supporting documents are available at https://www.regulations.gov (Docket ID No. EPA-HQ-OW-2019-0583).

David P. Ross,
Assistant Administrator, Office of Water.

[FR Doc. 2020-08642 Filed 4-28-20; 11:15 am]

BILLING CODE 6560-50-P